DEPARTMENT OF TRANSPORTATION

Surface Transportation Board

[STB Docket No. AB-32 (Sub-No. 101X); STB Docket No. AB-355 (Sub-No. 35X)]

Boston and Maine Corporation—Abandonment Exemption—in Hartford County, CT; Springfield Terminal Railway Company—Discontinuance of Service Exemption—in Hartford County, CT

Boston and Maine Corporation (B&M) and Springfield Terminal Railway Company (ST) (collectively, applicants) jointly have filed a notice of exemption under 49 CFR part 1152 Subpart F—Exempt Abandonments and Discontinuances of Service for B&M to abandon, and for ST to discontinue service over, approximately .73 miles of railroad known as the Canal Branch, extending from milepost 24.00 to milepost 24.73 in Hartford County, CT.¹ The line traverses United States Postal Service Zip Code 06489.

¹ An amendment was submitted on January 18, 2008, showing the correct mileage as .73 miles (mileposts 24.00 to 24.73) in lieu of mileage of 1.51 miles (mileposts 24.00 to 25.51), as originally filed.

B&M and ST have certified that: (1) No local traffic has moved over the line for at least 2 years; (2) there is no overhead traffic on the line; (3) no formal complaint filed by a user of rail service on the line (or by a state or local government entity acting on behalf of such user) regarding cessation of service over the line either is pending with the Surface Transportation Board (Board) or with any U.S. District Court or has been decided in favor of complainant within the 2-year period; and (4) the requirements of 49 CFR 1105.7 (environmental report), 49 CFR 1105.8 (historic report), 49 CFR 1105.11 (transmittal letter), 49 CFR 1105.12 (newspaper publication), and 49 CFR 1152.50(d)(1) (notice to governmental agencies) have been met.

As a condition to these exemptions, any employee adversely affected by the abandonment or discontinuance shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, these exemptions will be effective on February 26, 2008, unless stayed pending reconsideration. Petitions to stay that do not involve environmental issues,² formal expressions of intent to file an OFA under 49 CFR 1152.27(c)(2),³ and trail use/rail banking requests under 49 CFR 1152.29 must be filed by February 4, 2008. Petitions to reopen or requests for public use conditions under 49 CFR 1152.28 must be filed by February 14, 2008, with: Surface Transportation Board, 395 E Street, SW., Washington, DC 20423-0001.⁴

² The Board will grant a stay if an informed decision on environmental issues (whether raised by a party or by the Board's Section of Environmental Analysis (SEA) in its independent investigation) cannot be made before the exemptions' effective date. See Exemption of Out-of-Service Rail Lines, 5 I.C.C.2d 377 (1989). Any request for a stay should be filed as soon as possible so that the Board may take appropriate action before the exemptions' effective date.

³ Each OFA must be accompanied by the filing fee, which currently is set at $1,300. See 49 CFR 1002.2(f)(25).

⁴ Without further explanation, applicants state that, prior to the effective date of these exemptions, title to the line will be acquired by third parties. Applicants are advised that they cannot transfer the title until the exemptions become effective or until they obtain appropriate Board authority.

A copy of any petition filed with the Board should be sent to applicants' representative: Michael Q. Geary, Iron Horse Park, North Billerica, MA 01862.

If the verified notice contains false or misleading information, the exemptions are void ab initio.

B&M and ST have filed an environmental and historic report which addresses the effects, if any, of the abandonment and discontinuance on the environment and historic resources. SEA will issue an environmental assessment (EA) by February 1, 2008. Interested persons may obtain a copy of the EA by writing to SEA (Room 1100, Surface Transportation Board, Washington, DC 20423-0001) or by calling SEA, at (202) 245-0305. [Assistance for the hearing impaired is available through the Federal Information Relay Service (FIRS) at 1-800-877-8339.] Comments on environmental and historic preservation matters must be filed within 15 days after the EA becomes available to the public.

Environmental, historic preservation, public use, or trail use/rail banking conditions will be imposed, where appropriate, in a subsequent decision.

Pursuant to the provisions of 49 CFR 1152.29(e)(2), B&M shall file a notice of consummation with the Board to signify that it has exercised the authority granted and fully abandoned the line. If consummation has not been effected by B&M's filing of a notice of consummation by January 25, 2009, and there are no legal or regulatory barriers to consummation, the authority to abandon will automatically expire.

Board decisions and notices are available on our Web site at http://www.stb.dot.gov.

Decided: January 18, 2008.
By the Board, David M. Konschnik, Director, Office of Proceedings.
Anne K. Quinlan,
Acting Secretary.

[FR Doc. E8-1289 Filed 1-24-08; 8:45 am]

BILLING CODE 4915-01-P